DEPARTMENT OF ENERGY

Federal Energy Regulatory Commission

[Project No. 15000-003]

Erie Boulevard Hydropower, L.P.; Notice Soliciting Scoping Comments

Take notice that the following hydroelectric application has been filed with the Commission and is available for public inspection.

a. Type of Application: New Major License.

b. Project No.: 15000-003.

c. Date filed: June 30, 2022.

d. Applicant: Erie Boulevard Hydropower, L.P. (Erie).

e. Name of Project: Franklin Falls Hydroelectric Project (Franklin Falls Project or project).

f. Location: The existing project is located on the Saranac River, in the town of St. Armand in Essex County and the town of Franklin in Franklin County, New York.

g. Filed Pursuant to: Federal Power Act, 16 U.S.C. 791(a)-825(r).

h. Applicant Contact: Steven Murphy, Director, U.S. Licensing, Erie Boulevard Hydropower, L.P., 33 West 1st Street South, Fulton, New York 13069; phone: (315) 598-6130; email: steven.murphy@brookfieldrenewable.com; and Patrick Storms, Director of Operations, Erie Boulevard Hydropower, L.P., 800 Starbuck Avenue, Suite 201, Watertown, New York 13601; phone: (315) 779-2410; email: patrick.storms@brookfieldrenewable.com.

i. FERC Contact: Joshua Dub at (202) 502-8138, or joshua.dub@ferc.gov.

j. Deadline for filing scoping comments: June 5, 2023.¹

¹ The Commission's Rules of Practice and Procedure provide that if a deadline falls on a Saturday, Sunday, holiday, or other day when the Commission is closed for business, the deadline does not end until the close of business on the next business day. 18 CFR 385.2007(a)(2). Because the 30-day deadline falls on a Sunday (i.e., June 4, 2023), the deadline is extended until the close of business on Monday, June 5, 2023.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy via U.S. Postal Service to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Franklin Falls Hydroelectric Project (P-15000-003).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Franklin Falls Project consists of the following existing facilities: (1) a 148-foot-long, 45-foot-high concrete overflow-type dam with a crest elevation of 1,462.88 feet ² topped with 2-foot-high flashboards; (2) a reservoir with a surface area of 479 acres and a gross storage capacity of 5,580 acre-feet at a pool elevation of 1,464.88 feet; (3) an integrated 28-foot-long gated intake structure located on the dam's south side; (4) a 10.5-foot-diameter, 300-foot-long steel penstock that bifurcates into two 10-foot-diameter, 38-foot-long penstocks; (5) a 43-foot-high surge tank with a 20-foot-diameter steel shaft; (6) a powerhouse containing two turbine-generator units having a total rated capacity of 2.12 megawatts; (7) two 85-foot-long, 2.3-kilovolt (kV) generator leads; (8) a 2.3/46-kV step-up transformer bank; (9) a 300-foot-long, 46-kV transmission line; (10) a tailrace; and (11) appurtenant facilities.

² All elevations are in National Geodetic Vertical Datum of 1929.

The Franklin Falls Project operates in a modified run-of-river mode. If inflow exceeds the hydraulic capacity of the units, the project operates continuously at full load. When the inflow is less than the hydraulic capacity of the project, the project is operated in a run-of-river mode utilizing pondage as needed for daily flow regulation and to suit power requirements of the New York Independent System Operator. The project has an average annual generation of 10,349 megawatt-hours.

Erie does not propose changes to project facilities or operation. Erie proposes to continue to: (1) provide a minimum base flow of 245 cubic feet per second (cfs) or inflow, whichever is less, from March 1 through June 1 from the Franklin Falls powerhouse; and from June 2 to March 1 reservoir inflow is released from the powerhouse, as needed for the downstream Saranac Project No. 4472 to maintain a minimum base flow of 165 cfs, or inflow, whichever is less; (2) limit the maximum total drawdown of the Franklin Falls impoundment to 2 feet below the top of the flashboards, or 1 foot below the spillway crest when flashboards are not in use (Erie annually installs flashboards at Franklin Falls by the first week of June, unless flow conditions warrant otherwise); (3) provide a minimum flow to the bypassed reach of 125 cfs or inflow, whichever is less, from March 31 through May 31 for the protection of walleye spawning and incubation (the release schedule may be modified on a year-to-year basis based on water temperatures and the presence/absence of walleye, upon mutual agreement between Erie and the New York State Department of Environmental Conservation); and (4) operate and maintain the hand-carry boat launch and canoe portage.

Erie proposes to modify the project boundary by removing approximately 1.12 acres along the northern shoreline of the project impoundment that are not needed for project operation and adding approximately 0.14 acre to include the project's existing hand-carry boat launch. In addition, Erie proposes to implement its proposed bald eagle management plan, invasive species management plan, and impoundment drawdown plan.

m. In addition to publishing the full text of this document in the Federal Register, the Commission provides all interested individuals an opportunity to view and/or print the contents of this document via the internet through the Commission's Home Page (www.ferc.gov) using the “eLibrary” link. Enter the docket number, excluding the last three digits, in the docket number field to access the document (P-15000). At this time, the Commission has suspended access to the Commission's Public Access Room. For assistance, contact FERC at FERCOnlineSupport@ferc.gov or call toll-free, (886) 208-3676 or TTY, (202) 502-8659.

n. You may also register online at http://www.ferc.gov/docs-filing/esubscription.asp to be notified via email of new filings and issuances related to this or other pending projects. For assistance, contact FERC Online Support.

o. Scoping Process:

Commission staff will prepare either an environmental assessment (EA) or an environmental impact statement (EIS) that describes and evaluates the probable effects, if any, of the licensee's proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do not anticipate holding on-site scoping meetings. Instead, we are soliciting written comments and suggestions on the preliminary list of issues and alternatives to be addressed in the NEPA document, as described in scoping document 1 (SD1), issued May 5, 2023.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: May 5, 2023.
Kimberly D. Bose,
Secretary.

[FR Doc. 2023-10064 Filed 5-10-23; 8:45 am]

BILLING CODE 6717-01-P